DEPARTMENT OF DEFENSE

Department of the Army

[Docket ID USA-2021-HQ-0009]

Proposed Collection; Comment Request

AGENCY: Department of the Army, Department of Defense (DoD).

ACTION: Information collection notice.

SUMMARY: In compliance with the Paperwork Reduction Act of 1995, the Office of the Chief of Staff of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 16, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of the Army, Office of the Deputy Chief of Staff, G-9, Soldier & Family Readiness Division, 600 Army Pentagon, Washington, DC 20310; ATTN: Jill Knaus, or call 703-695-7095.

SUPPLEMENTARY INFORMATION: Title; Associated Form; and OMB Number: Army Survivor Advisory Working Group Application; OMB Control Number 0702-0144.

Needs and Uses: The information collection requirement is necessary to assess individuals who apply to become new members of the Army's Survivor Advisory Working Group (SAWG). SAWG advisors may provide advice and recommendations regarding vital Total Army (Active Component, Army National Guard, and U.S. Army Reserve) Survivor quality of life issues. Advisors assess how current Survivor programs and initiatives may affect the Survivor community. SAWG members are required to meet biannually for a four-day period. Additionally, members hold monthly phone calls discussion on SAWG issues.

Affected Public: Individuals or households.

Annual Burden Hours: 306.3.

Number of Respondents: 150.

Responses per Respondent: 1.167.

Annual Responses: 175.

Average Burden per Response: 1.75 hours.

Frequency: Annually.

Respondents may be surviving spouses, parents, and dependents over the age of 18 of fallen Service members. Applicants will be nominated by the Army's Survivor Outreach Services office or survivor-related Non-Federal Entities. Individuals will receive a fillable PDF application and cover letter outlining the SAWG's purpose and length of service. The staff reviews all applications and verifies the applicant is an Army Survivor. Applications are sorted into a list of 1-20 based on the criteria listed in the SAWG Charter and the list is provided to the Chief of Staff, Army (CSA) for final approval. Individuals not selected will be notified by email that they were not selected. Those selected will be notified by telephone by program manager. At the completion of the application process, the CSA will select new members to fill up to 12 positions every year the SAWG exists.

Dated: May 12, 2021.
Kayyonne T. Marston,
Alternate OSD Federal Register Liaison Officer, Department of Defense.

[FR Doc. 2021-10343 Filed 5-14-21; 8:45 am]

BILLING CODE 5001-06-P